DEPARTMENT OF DEFENSE

Office of the Secretary

[Docket ID: DOD-2017-OS-0043]

Submission for OMB Review; Comment Request

AGENCY: Office of the Under Secretary of Defense for Personnel & Readiness (OUSD (P&R)), Office of the Assistant Secretary of Defense for Readiness (OASD(R)), DoD.

ACTION: 30-Day information collection notice.

SUMMARY: The Department of Defense has submitted to OMB for clearance, the following proposal for collection of information under the provisions of the Paperwork Reduction Act.

DATES: Consideration will be given to all comments received by January 26, 2018.

ADDRESSES: Comments and recommendations on the proposed information collection should be emailed to Ms. Jasmeet Seehra, DoD Desk Officer, at Oira_submission@omb.eop.gov. Please identify the proposed information collection by DoD Desk Officer and the Docket ID number and title of the information collection.

FOR FURTHER INFORMATION CONTACT: Fred Licari, 571-372-0493, or whs.mc-alex.esd.mbx.dd-dod-information-collections@mail.mil.

SUPPLEMENTARY INFORMATION:

Title, Associated Form and OMB Number: Building Healthy Military Communities (BHMC) Pilot Rapid Needs Assessment (RNA); OMB Control No. 0704-XXXX.

Type of Request: New collection.

Number of Respondents: 280.

Responses per Respondent: 1.

Annual Responses: 280.

Average Burden per Response: 90 minutes.

Annual Burden Hours: 420.

Needs and Uses: The information collection requirement is necessary to establish a baseline assessment of readiness requirements and available resources to support these requirements at a state level, as well as to identify current gaps in resources for Service members across all components.

Affected Public: Individuals or households, Business or other for profit; Not-for-profit institutions, State, local, or tribal government.

Frequency: One-time.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: December 20, 2017.
Aaron Siegel,
Alternate OSD Federal Register Liaison Officer, Department of Defense.

[FR Doc. 2017-27839 Filed 12-26-17; 8:45 am]

BILLING CODE 5001-06-P